DEPARTMENT OF COMMERCE

National Oceanic and Atmospheric Administration

50 CFR Part 648

[Docket No. 141002822-4933-01]

RIN 0648-BE56

Magnuson-Stevens Fishery Conservation and Management Act Provisions; Fisheries of the Northeastern United States; Northeast Groundfish Fishery; Fishing Year 2014; Emergency Gulf of Maine Cod Management Measures

AGENCY: National Marine Fisheries Service (NMFS), National Oceanic and Atmospheric Administration (NOAA), Commerce.

ACTION: Temporary rule; interim action; request for comments.

SUMMARY: This temporary rule implements commercial and recreational fishery management measure changes for Gulf of Maine cod protection in response to a recent updated assessment of the status of this severely depleted stock. The measures of this interim rule are necessary to reduce fishing mortality on GOM cod and to provide additional stock and spawning protection. The intended effect of these interim measures are to decrease fishing year 2014 catch so that overfishing is reduced and protect the stock until more permanent measures can be developed by the New England Fishery Management Council (Council).

DATES: Effective November 13, 2014, until May 12, 2015. Comments must be received by December 13, 2014.

ADDRESSES: You may submit comments, identified by NOAA-NMFS-2014-0125, by any of the following methods:

• Electronic submissions: Submit all electronic public comments via the Federal eRulemaking Portal. Go to www.regulations.gov/#!docketDetail;D=NOAA-NMFS-2014-0125, click the “Comment Now!” icon, complete the required fields, and enter or attach your comments.

• Mail: Submit written comments to John K. Bullard, Regional Administrator, National Marine Fisheries Service, 55 Great Republic Drive, Gloucester, MA 01930. Mark the outside of the envelope, “Comments on the GOM Cod Interim Action.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Copies of an environmental assessment (EA) prepared by the Greater Atlantic Regional Fisheries Office (GARFO) and Northeast Fisheries Science Center (Center) for this rulemaking are available from John K. Bullard, Regional Administrator, National Marine Fisheries Service, 55 Great Republic Drive, Gloucester, MA 01930. The EA is also accessible via the Internet at www.nero.noaa.gov/sfd/sfdmulti.html.

FOR FURTHER INFORMATION CONTACT: Michael Ruccio, Fishery Policy Analyst, phone: 978-281-9104.

SUPPLEMENTARY INFORMATION:

Interim Measures

At the request of the Council, and in response to a recent updated assessment of Gulf of Maine (GOM) cod indicating that this stock is at a historically low abundance level, NMFS, on behalf of the Secretary of Commerce, is taking interim action to implement GOM cod fishing mortality reductions and other management measures designed to reduce overfishing, protect aggregations and spawning, and keep GOM cod on a rebuilding trajectory. These actions are being implemented as interim measures under the authority provided in section 305(c) of the Magnuson-Stevens Fishery Conservation and Management Act (Magnuson-Stevens Act) with the expectation that the Council will recommend additional permanent measures for fishing year 2015 and beyond to end overfishing and rebuild this stock. The measures are summarized here with additional detail provided under specific headings that appear below in this rule's preamble. The measures are:

1. Time and area closures applicable to federally permitted vessels using commercial and recreational fishing gear capable of catching GOM cod;

2. A 200-lb (90.7-kg) GOM cod trip limit both the common pool and sector vessels;

3. Changes to commercial fishing declarations prohibiting sector vessels declaring into the GOM Broad Stock Area from fishing in another broad stock area on the same trip;

4. Prohibition on the possession of recreationally caught GOM cod (applies to entire GOM Broad Stock Area); and

5. Revocation of a previously authorized GOM exemption that allowed sector vessels declared into the gillnet fishery to use more gillnets.

This rule implements these measures for an initial 180 days, as authorized by section 305(c) of the Magnuson-Stevens Act. These measures may be extended, or modified, as needed, for an additional 186 days pursuant to section 305(c) of the Magnuson-Stevens Act. Any modification or extension will be published in the Federal Register. This rule is consistent with the requirements established under section 305(c) and NMFS policy guidance for emergency rulemaking.

Seasonal Interim Closure Areas

The following areas are closed to federally permitted vessels using fishing gear (commercial and recreational, including party and charter) capable of catching GOM cod, which does not include “exempted gear” as defined in § 648.2, in the times and areas indicated in Figure 1, beginning on the date this rule is published in the Federal Register. These measures temporarily replace and expand on the existing GOM rolling closures. Although the closures will be in effect upon this rule's publication, we will delay implementing the closure areas for 2 weeks following publication of this rule to allow fixed gear (gillnets, longline) time to remove fishing gear from the November closure areas (i.e., 30-minute squares 132, 133, 125, and the northern half of 124). The portions of the year-round Western Gulf of Maine (WGOM) Closure Area not otherwise closed by the 30-minute squares that overlap the area in this action will continue remain accessible for federally permitted party and charter vessels through a Letter of Authorization.

Seasonal Interim Closure Area Rationale

Three objectives were used in evaluating areas for interim closures: Reducing fishing mortality by reducing GOM cod commercial and recreational catch; protecting core areas where the remaining GOM cod stock is believed to be located; and protecting areas of likely cod spawning activities. These objectives were analyzed in the context of not closing down the entire GOM so as to allow some harvesting of other groundfish stocks but still reducing mortality and fishing on cod while the Council develops more permanent measures for Framework Adjustment 53. Furthermore, it is unnecessary to try and prevent all fishing mortality for the remainder of fishing year 2014 as the stock can rebuild if subject to overfishing in 2014 and sufficient measures are in place beginning in 2015. To achieve zero fishing mortality would require closing all fisheries in the Gulf of Maine, including those that do not target groundfish. The impacts of such measures would be substantial and, as a result, such a closure is impracticable and unwarranted to ensure effective cod conservation.

In requesting the emergency action, the Council was not specific in describing measures it recommended to reduce fishing mortality for the remainder of fishing year 2014. We agree that, based on the updated assessment, fishing mortality must be greatly reduced for GOM cod as soon as possible to help ensure that overfishing can be ended and the stock can rebuild. To allow fishing on GOM cod for the rest of this fishing year without any additional measures and under the available annual catch limit (ACL), would reduce the likelihood of ending overfishing and successfully rebuilding the stock in subsequent years. We contemplated making changes to the ACL for the rest of fishing year 2014, which would trigger a quota recall. However, doing so would be administratively complex and a challenge to implement quickly. Given the stage of the fishing year, it would also be challenging to administer a quota recall in an equitable fashion. The Council is developing specifications for the 2015 fishing year (May 1, 2015, to April 30, 2016) in Framework Adjustment 53 that would reduce the GOM cod ACLs based on the 2014 stock assessment update for cod.

We chose time and area closures as the best means to reduce catch for the remainder of fishing year 2014 in light of the objectives stated above. In selecting these areas, we analyzed where the majority of 2010 to mid-calendar year 2014 GOM cod catches have occurred. The basis for our analysis is that fishermen have fished where the stock is located and by selectively closing some of these areas, catch can be reduced and the standing stock protected. These analyses indicated several locations where cod have consistently been taken in commercial and recreational fisheries during this time. Our analysis indicates that while catches were more inshore during 2010-12, a higher proportion of catch occurred east of the year-round WGOM Closure Area in 2013 and thus far in 2014. It is not known if this is a shift in fishing behavior, redistribution of the GOM cod stock, or some combination of both. It is also not known if effort and the stock may shift back inshore during peak spawning periods yet to come for winter and spring 2015. This redistribution mirrors anecdotal information recently provided by the fishing industry. The areas and times selected for closure, therefore, were informed by these most recent trends of fishing but also provide protection for areas of high catch earlier in the period evaluated.

We also chose measures to reduce fishing mortality on GOM cod based on the potential of effort shifting to other groundfish stocks. We were particularly concerned about potential haddock interactions, as we are undertaking concurrent action to increase the fishing year 2014 commercial haddock catch allowance for the remainder of the year. We kept open areas where the amount of non-cod species catch might be strong but the potential cod catch relatively low. In cases where co-occurrence of cod and other likely target stocks were high, the areas were closed to reduce cod fishing mortality and to discourage intentional targeting of cod or incidental take of cod while fishing for other stocks.

For GOM cod to have a meaningful chance to recover, not only must fishing mortality be controlled, but the complex courtship and spawning process must be protected. To this end, we are also closing areas important to spawning and spawning potential. The spawning-related closure measures are based on information assembled by the Closed Area Technical Team for the Council's Omnibus Habitat Amendment 2, information from the Industry Based Survey, Massachusetts Division of Marine Fisheries research, and scientific literature. Because of difficulty in pinpointing spawning spatially and temporally, we used broad, larger areas for the spawning-related closures. The use of larger areas is expected to provide more protection for spawning activities than would smaller or disaggregated areas. This is because there is strong evidence that pre-spawning courtship and foraging, spawning activities, and post-spawning egress from areas can be substantially impacted by fishing activities and result in high fishery removals. In particular, the focused harvest of spawning aggregations in Atlantic Canada is often cited as a substantial contribution to the cod stock collapse there in the early 1990s. More information on the analyses we performed is available in the EA and not repeated here.

In selecting spawning-related closures, we first examined if areas were known or likely to be cod spawning or spawning activity related areas. When areas/times were verified, we designated those areas for closure irrespective of how much cod catch had historically occurred in the time/area. Next, we looked for areas that produced a proportionately high cod catch relative to the total cod caught in a given month because there is a strong correlation between high cod catch and spawning activity. Accordingly, those areas that provide high proportional catches, particularly in recent years, were designated for closure.

As another basis for selecting the closed areas, if an area produced moderate catches or had variable catch contributions over time, we evaluated the tradeoff between closing the area for cod mortality reduction and the potential foregone access to other, more abundant stocks. We attempted to strike a balance between ensuring cod mortality would, in fact be reduced, while providing access to other stocks.

The analyses we undertook indicate that by closing areas identified as producing a high proportion of cod catch and/or are involved with cod spawning activities, it may be possible to reduce GOM cod catch by a sizable amount—ranging from 68 to 82 percent for commercial and 73 to 81 percent for recreational catch, depending on which of the years from 2010 to 2014 are included in the analysis. These potential reductions should be viewed with the caveat that they are the result of evaluating how much catches would be reduced had the interim measure closures been in place for 12 months, fishing behaviors remained unchanged, and stock distribution stayed the same. This evaluation does not consider the catch that has already occurred for fishing year 2014, so it is not appropriate to conclude that approximately 75 percent of the ACL will be taken, for example. Any number of these assumptions may change and, as a result, the reductions should be viewed as a potential relative reduction in fishing mortality/catch. In particular, effort may shift to areas not heavily targeted for cod following implementation of these seasonal closures. In any given year, no more than 32 percent of the total commercial and 27 percent of the total recreational cod catch occurred in the areas being left open under this interim action. As a result, it is not possible to precisely quantify the potential magnitude of fishing mortality reduction that will result from the area closures; however, the analysis indicates closing these areas should be effective in reducing GOM cod catch and reducing overfishing, in lieu of reducing commercial ACL inseason. The closure areas also provide the added benefit protecting fall/winter/spring GOM cod spawning activities.

As previously indicated, implementation of these closure areas will be delayed for 2 weeks so that fixed gear can be removed from the November closure areas. However, on and after the date of publication of this rule, vessels transiting these closed areas must have gear stowed in accordance with regulations found in § 648.2. Trawl vessels may use on-net storage provisions in § 648.2 not available for immediate use that pertain to transiting seasonal closure areas.

Commercial Fishery Trip Limits

This action implements a 200-lb (90.7-kg) GOM cod trip limit for all vessels fishing in fishing year 2014 sectors. This means that sector vessels and common pool vessels are now limited to possessing and landing limit of 200 lb (90.7 kg) of GOM cod per trip regardless of the length of a trip. This does not change the current possession and landing limit for Handgear A and Small Vessel category permitted vessels because they were already subject to a 200-lb (90.7-kg) per trip limit under Framework Adjustment 51 measures.

Commercial Fishery Trip Limit Rationale

The 200-lb (90.7-kg) trip limit is necessary to ensure open-area catch does not result in excessive GOM cod fishing mortality by reducing the incentive to target on this stock in areas that would remain open. We evaluated a trip limit versus reducing the ACL and chose the trip limit because reducing ACLs would be administratively complex and something that could not be done quickly. Without a trip limit, there would be a possibility that if GOM cod occurred in any concentrations not expected, then catch reduction objectives from closed areas would be compromised.

A 200-lb (90.7-kg) limit was chosen based on analysis of trip-level catch data from calendar year 2013, the most recent calendar year available for analysis, which indicates that approximately 75 percent of the trips taken in areas that will remain open in this action caught less than 200 lb (90.7 kg). While the range of these trips above 200 lb (90.7 kg) varies from just over 200 lb (90.7 kg) to upwards of 2,000 lb (90.7 kg), these data suggest that the frequency and magnitude of discards would not be excessive even if fishing behaviors are unchanged. This is particularly true when paired with the expected mortality reductions provided by the interim measure closed areas. If fishing behavior is changed such that fishermen actively seek to avoid catching GOM cod, the likelihood of regulatory discards should be even lower. Overall, even if discards of GOM cod on individual trips increase somewhat as a result of this trip limit, the overall reduction of fishing mortality of this stock should be greater than if no trip limit was in place.

Approximately 25 percent of sector trips are subject to at-sea monitoring or observation. The remaining 75 percent of GOM sector trips are not monitored at sea. Very few fishermen report discards on their Vessel Trip Reports. However, we are hopeful that fishermen will take measures to avoid catching GOM cod by either avoiding areas of known cod concentration, using selective gear, leaving areas where cod are unexpectedly captured, and, when necessary, reporting cod discards. There are several uncertainties about how effort may shift in response to the closed areas and what GOM cod catch rates may be in the remaining open areas. Trip limits are an essential component to mitigating these uncertainties while attempting to ensure the overarching objectives for GOM cod are not compromised if effort and catches would otherwise be high in open areas. We expect trip limits to effectively dissuade targeting behavior, even with concerns about discards and monitoring. However, our message is clear: Avoid cod, if at all possible.

We expect the Council will put in place 2015 GOM cod catch limits that will constrain operations because of low common pool sector catch limits. Thus, it is likely that sector trip limits will only be necessary until May 1, 2015, as a way to ensure overfishing is reduced for the remainder of the 2014 fishing year. The Council's SSC has recommended 485 mt as an acceptable biological catch (ABC) for the 2015 fishing year.

Commercial Fishery Declaration Changes

This interim rule also prohibits commercial fishing vessels in both the sector program and common pool that declare trips in the GOM Broad Stock Area from fishing in other broad stock areas (i.e., Georges Bank (GB) or Southern New England (SNE)) on the same trip.

Broad Stock Area Declaration Changes Rationale

NMFS, the Council, and Council's Groundfish Oversight Committee have expressed concern that there is a strong incentive to misreport catch on unobserved trips in situations where catch limits or available annual catch entitlement (ACE) may be constraining. There are retrospective patterns in many groundfish stock assessments that may be the result of unaccounted-for mortality, one source of which may be misreported or unreported catch. To better ensure that accurate apportionment of catch, we are implementing a requirement that restricts trips declared into the GOM Broad Stock Area to fishing in that area only, irrespective of whether the trip is monitored/observed or not. Although recognizing that this measure impedes flexibility previously provided to fish in multiple stock areas on a trip, we have determined that the short-term benefits of this measure are necessary in the context of this interim rule and its objectives to ensure the effectiveness of all of the other measures in this interim rule.

The Council and Committee contemplated a similar requirement restricting vessels to fishing in the inshore GOM area (defined as west of 70° W. longitude) unless an at-sea monitor or observer was onboard. We understood the objective of such a measure was to ensure better catch reporting accuracy and discard estimation for unobserved trips occurring in the inshore GOM area while allowing multiple area trips when the fishing activity was monitored or observed. We considered this approach but were unable to adopt the specific approach discussed by the Committee and Council for two reasons: First, the existing reporting areas are based on broad stock areas (e.g., GOM). We would have to create a new inshore reporting area which would require changes to Vessel Monitoring System (VMS) areas and reporting requirements. Furthermore, new monitoring strata would be required for estimating discards inside and outside this area. This change would have implications for prescribed monitoring coverage levels and funding for the year. Such changes would also extend the development and implementation time of an emergency action and, as a result, were not implemented because of the overarching need to put in place cod conservation measures quickly.

Second, putting in place this type of flexibility can create a bias for observed trips that are randomly selected for observer or at-sea monitoring coverage through the pre-trip notification system (PTNS). We are concerned that the flexibility to fish in multiple areas on a trip provides a strong incentive to wait and undertake a multiple-area trip if selected for monitoring. This could mean fewer observers/monitors deploy on standard trips which would undermine the reliability of discard rates for unobserved trips that are operating in areas differently than those that are observed.

Because of these concerns, the most expeditious way to improve GOM cod catch apportionment in the context of this interim rule is to restrict fishing activity to the GOM for trips declared into the broad stock area. Vessels may continue to declare into the Inshore and Offshore Georges Bank or Southern New England Broad Stock Areas and fish in both on a trip, provided all other existing declaration and reporting requirements for so doing are satisfied. We will encourage the Council to consider the implications of multiple stock area trips moving forward as long-term GOM cod recovery measures are discussed for Framework Adjustment 53 implementation.

Prohibition on Recreationally Caught GOM Cod

This interim rule extends the current prohibition on possession or landing GOM cod in or from Federal waters by recreational anglers and federally permitted party and charter vessels to the end of the fishing year, April 30, 2015. The prohibition may be extended beyond May 1, 2015, pending further Council discussion and/or agency evaluation of fishing year 2015 accountability measures.

The possession of recreationally caught GOM cod was already in place for September 1, 2014, to April 14, 2015, under the measures implemented for fishing year 2014 (77 FR 22419; April 22, 2014). This rule extends that prohibition until at least April 30, 2015.

Recreational Possession Prohibition Rationale

This change is necessary to minimize additional recreational catch and discard mortality for GOM cod. Marine Recreational Information Program (MRIP) data for May-August 2014 indicates that the fishing year 2014 recreational sub-ACL has already been exceeded, prior to the opening of the scheduled spring fishery. MRIP data through waves 3 and 4 (May-August 2014) indicate a recreational GOM cod catch of approximately 500 mt. The recreational GOM cod sub-ACL for the 2014 fishing year is 486 mt. A prohibition on possession does not preclude recreational fishing in areas not otherwise closed to gear capable of catching cod by this interim rule. However, similar to commercial trip limits, we expect that a prohibition on retention will dissuade fishing activity in areas where cod are frequently taken in recreational fisheries. As with the commercial fishery, even if discards may increase on some individual trips, overall mortality due to recreational fishing is expected to decrease, particularly since a portion of recreationally captured cod are estimated to survive. Discard survivability may be enhanced further by good handling techniques and through use of baited hooks that better ensure mouth hooking. Preliminary work by several New England fisheries research institutions shows a higher incidence of severe body injury and associated mortality for cod taken with unbaited jig tackle.

Additional measures to reduce GOM cod recreational mortality are anticipated for the May 1, 2015, start date of fishing year 2015, given the 2014 overage and expected reduction in the overall catch limit next year. We will work with the Council as such measures are developed and will either implement interim measures, as needed for fishing year 2015, or will assist in implementing recreational measures through Framework Adjustment 53 rulemaking.

Sector Day Gillnet Limit on Number of Gillnets; Exemption Revocation

This action rescinds a previously issued fishing year 2014 sector exemption (79 FR 23278; April 28, 2014) for the number of gillnets that Day gillnet vessels fishing in the GOM can use. With this exemption rescinded, Day gillnet vessels will be subject to the existing regulation restricting them to using no more than 100 gillnets of 300 feet (91.4 m), or 50 fathoms (91.4 m) in length in the GOM. Of these 100 gillnets, no more than 50 gillnets may be rigged for roundfish (i.e., gillnets that are constructed with floats on the float line and that have no tie-down twine between the float line and the lead line).

Number of Gillnets for Day Gillnet Vessels Exemption Revocation Rationale

We examined all fishing year 2014 issued sector exemptions, seeking to evaluate their potential impact on GOM cod. The Council discussed including exemption review in its emergency action request. Although ultimately, the Council did not ask us to review the possibility of rescinding sector exemptions, we examined which exemptions may be negatively impacting cod through high cod selectivity or disruption to spawning activity. We determined that that the closed areas and other management measures in this rule provide sufficiently robust catch reduction and stock protection measures that, other than the gillnet exemption, no other exemption needed to be modified or revoked for the remainder of the 2014 fishing year.

Day gillnet fishermen leave their nets fishing when they come in and out of port. The 2014 sector exemption allowed them to fish up to 150 nets, all of which could be roundfish nets. In both 2013 and 2014, we reduced this flexibility by removing the exemption when fishing in 30-minute blocks 124 and 125 in May and blocks 132 and 133 in June, because of concerns relating to mortality to GOM cod caused by continuous fishing by gillnets left in the water and the potential to disrupt spawning when cod are caught. In addition to the overall amount of Day gillnet gear in the water, we are also concerned that continuing the exemption could cause barriers of gillnets along the boundaries of closed areas that would otherwise catch cod going into or coming out of the closed areas. As a result, we are revoking this exemption as a discrete and effective measure that could reduce the overall mortality of GOM cod.

We will allow a 2-week window from the date of publication of this rule for Day gillnet vessels to remove excess gear from the GOM Broad Stock Area.

Other Measures Considered But Rejected

In our consideration of what measures would provide catch reduction and stock protection in the context of an interim rule with the objectives stated above, we felt it important that measures must be developed, analyzed, and implemented quickly to be of benefit for the remainder of fishing year 2014 and to provide stop-gap measures while the Council develops Framework Adjustment 53 to address on a long-term basis the updated assessment. This limited the scope and scale of options.

We considered wholescale closure of the GOM; however, we thought that the negative socio-economic impacts were not justified for the conservation return that could be realized for such an action. As indicated in current analyses, it is not necessary to stop all mortality on this stock for it to be rebuilt over time as long as appropriate measures are implemented in 2015 and onward.

We considered requiring selective trawl gear use in conjunction with closed areas. These types of nets have demonstrated an ability to reduce cod catch when properly outfitted and fished. We were concerned that the benefits of requiring such gear would be diluted due to delays necessary to allow fishermen to comply with this action. In light of this delay and the difficulty in quantifying the amount of reduction in overall GOM cod mortality that would come from such a measure, we determined that costs that fishermen would incur for purchasing or rigging new gear did not justify imposing this requirement as a potentially short-term interim measure.

We constrained our evaluation to modifications of existing measures or things that could be quickly implemented. This was necessary because new concepts and measures would take more time to develop and would potentially delay implementation of any action. For example, changes in VMS require clearance under the Paperwork Reduction Act. Although by itself this is not an insurmountable issue, it would require additional time to complete the required clearances, which would be contrary to the purpose of this action to reduce overfishing of GOM cod as soon as possible. We also started our evaluation by considering what the Council and Committee discussed, including evaluating the alternatives that the Council has initiated for Framework Adjustment 53 because these interim measures should attempt to complement and bolster the potential Council actions. As an interim action, the scope, scale and type of the measures are necessarily different than those the Council may consider and has discussed for fishing year 2015. For example, the Council may choose to make use of catch limits that end overfishing in fishing year 2015 whereas this interim rule was constricted to using closed areas and trip limits as explained above.

We were also concerned about concurrently increasing the GOM haddock catch limits in response to new assessment information for that stock. We considered not increasing haddock catch limits in the face of this action but recognize the desire for fisheries flexibility to target healthy stocks and the need to further mitigate the negative consequences of this action and relatively low overall catch limits for many stocks including GOM haddock in Framework Adjustment 51. We believe the combination of closed areas that will reduce cod and to some extent haddock catch, trip limits, and limitations of available sector annual catch entitlement (ACE) for other stocks will help ensure that cod mortality associated with targeting haddock will not jeopardize the overall objective of this action in reducing cod overfishing while the Council develops longer-term measures in Framework Adjustment 53.

6-Month Renewal of Interim Measures

NMFS' interim authority is available for up to 180 days in an initial action and is open to public comments. After considering public comments, the interim rule may be extended or modified up to an additional 186 days after the date of publication by a subsequent rulemaking, which provides for a full year (12 consecutive months) of interim measures, if necessary. NMFS may renew and modify interim measures on or about March 2015 to provide cod mortality reduction and protection measures for the beginning of the 2015 fishing year that begins May 1, 2015, as needed. Our intent is to work with the Council as it develops measures for Framework Adjustment 53; however, should the Council either not take action or not recommend sufficient measures for fishing year 2015, we may extend these or other interim measures for an additional period not to exceed an additional 186 total days. As examples of measures that could be implemented on May 1, it may be necessary to implement recreational measures for the start of the fishing year or modify closure area locations and times based on more protracted evaluation of spawning information or catch distribution. We are accepting comment on these initial interim measures for consideration on the extension, should one be warranted.

Justification for Interim Action

The Magnuson-Stevens Act authorizes the Secretary to act if (1) the Secretary finds that an emergency involving a fishery exists; or (2) the Secretary finds that interim measures are needed to reduce overfishing in any fishery; or (3) if the Council finds one of those factors exists and requests that the Secretary act. See section 305 of the Magnuson-Stevens Act, 16 U.S.C. 1855(c). Where such circumstances exist, the Secretary may promulgate emergency rules or interim measures “to address the emergency or overfishing” 16 U.S.C. 1855(c)(1) and (2). The Secretary has delegated this authority to NMFS. Further, NMFS has issued guidance defining when “an emergency” involving a fishery exists (62 FR 44421; August 21, 1997). This guidance defines an emergency as a situation that (1) arose from recent, unforeseen events, (2) presents a serious conservation problem in the fishery, and (3) can be addressed through interim emergency regulations for which the immediate benefits outweigh the value of advance notice, public comment, and the deliberative consideration of the impacts on participants to the same extent as would be expected under the formal rulemaking process. Under the statute and guidance, the rationale for issuing these emergency and interim regulations is as follows: The August 2014 GOM cod assessment update indicates that the stock is overfished, is subject to overfishing, and is at a historically low level of abundance. The measures currently in place for fishing year 2014 may result in substantial overfishing of the stock and compromise the stock's ability to rebuild over the long term if not implemented as soon as possible. This action is necessary to reduce overfishing, consistent with the stated authority in section 305(c) of the Magnuson-Stevens Act.

Both NMFS and the Council agree with the stock assessment update's findings and that the stock is in need of immediate emergency measures to reduce overfishing and protect stock aggregations and spawning activities as a stop-gap while the Council develops longer-term measures necessitated by the updated assessment. Stated more simply, catch must be reduced and when and where cod are caught matters. The Council process would not be able to develop and recommend a framework adjustment, or other management measures, until its November 2014 meeting at earliest and most likely later. NMFS would not be able to consider and implement any such Council recommendations, even if issued directly as a final rule without prior public comment, until late winter or early spring. Based on these considerations, the Council voted 14 for, 3 against, to recommend that NMFS take emergency action as expeditiously as possible on behalf of the Secretary. NMFS stated its support for this request during Council deliberations, as the agency believes GOM cod is in need of immediate and rigorous protection. The Council's request is to use measures to reduce fishing mortality in fishing year 2014 while the Council works on long-term measures for May 1, 2015, implementation through Framework Adjustment 53. Accordingly, under the Magnuson-Stevens Act, NMFS, issues these emergency interim measures to address the need to reduce overfishing and protect the stock of GOM cod more expeditiously than the Council process or standard Administrative Procedure Act (APA) agency rulemaking could achieve.

Classification

Pursuant to section 304(b)(1)(A) of the Magnuson-Stevens Act, the NMFS Assistant Administrator has made a determination that this interim rule is consistent with the Northeast Multispecies Fishery Management plan (FMP), section 305(c) and other provisions of the Magnuson-Stevens Act, the APA, and other applicable law.

Section 553 of the APA establishes procedural requirements applicable to rulemaking by Federal agencies. The purpose of these requirements is to ensure public access to the Federal rulemaking process and to give the public adequate notice and opportunity for comment. Pursuant to 5 U.S.C. 553(b)(B) and 5 U.S.C. 553(d)(3), the Assistant Administrator for Fisheries finds good cause to waive the otherwise applicable requirements for both notice and comment rulemaking and a 30-day delay in effectiveness for this temporary rule implementing GOM cod management measures.

The availability of information and need for expedient action makes it impracticable to provide prior notice-and-comment opportunity and a 30-day cooling off period. The updated GOM cod assessment was initially made available in August and peer review was conducted late in that same month. The assessment indicates the GOM cod stock continues to be overfished, subject to substantial overfishing, and is estimated to be the smallest total size in recorded history. Over the course of September, the Council's Plan Development Team and Scientific and Statistical Committee received the results of the assessment and peer-review before providing advice to the Council's Groundfish Oversight Committee on September 24, 2014. In turn, the Committee recommended to the Council that a recommendation for emergency action be forwarded to NMFS. The Council deliberated on the Committee recommendation on October 1, 2014. The Council overwhelmingly agreed that the fishing mortality for GOM cod needed to be reduced as quickly as possible for the remainder of fishing year 2014. The existing catch limits, if left in place with no additional management changes, have the potential to result in fishing at a rate four times the desired fishing mortality for the year. This is substantial overfishing. The temporary rule is designed to implement measures that will decrease fishing mortality and reduce overfishing, shift fishing effort from areas of recent high catches where cod are believed to be aggregated, and to protect cod spawning areas and activities. Reducing catch limits, which would include recalling previously issued sector ACE during the fishing year, would be administratively complex and time consuming. By taking the approach outlined in this temporary rule, NMFS can put in place measures that have the potential to reduce fishing mortality, as requested by the Council. In the interim between this action and the start of the 2015 fishing year that begins May 1, 2015, the Council will develop and recommend long-term solutions, including potentially lower ACLs, designed to protect and rebuild GOM cod.

These timing-related issues paired with the need to complete analyses and the rulemaking processes as quickly as possible to reduce cod catches and end overfishing make it impracticable to propose GOM cod measures through notice-and-comment rulemaking. During the delay in which measures were developed and implemented, additional and potentially excessive GOM cod fishing mortality was expected to occur. In addition, some empirical data indicate that spawning, as indicated by ripe and running fish, begins in November. To provide protection for the 2014 spawning activities that begin in fall and continue through winter into spring, expediting these emergency measures is necessary.

For the reasons outlined, NMFS finds it impracticable and contrary to the public interest to provide prior opportunity to comment on these GOM cod emergency measures and provide a 30-day delay in implementation. Therefore, there exists good cause to waive both of those requirements.

NMFS has consulted with the Office of Information and Regulatory Affairs (OIRA) and due to the circumstances described above this action is exempt from review under Executive Order 12866.

This interim final rule does not contain policies with Federalism or “takings” implications as those terms are defined in E.O. 13132 and E.O. 12630, respectively.

This interim final rule is exempt from the procedures of the Regulatory Flexibility Act because the rule is issued without opportunity for prior notice and opportunity for public comment.

List of Subjects in 50 CFR Part 648

Fisheries, Fishing, Recordkeeping and reporting requirements.

Dated: November 6, 2014.
Samuel D. Rauch III,
Deputy Assistant Administrator for Regulatory Programs, National Marine Fisheries Service.

Therefore, NOAA amends 50 CFR part 648 as follows:

PART 648—FISHERIES OF THE NORTHEASTERN UNITED STATES

1. The authority citation for part 648 continues to read as follows:

Authority: 16 U.S.C. 1801 et seq.

2. Section 648.2 is amended by:

a. Suspending from November 13, 2014 until April 30, 2015, the definition for “Gillnet gear capable of catching multispecies”; and

b. Temporarily add from November 13, 2014 until April 30, 2015, a definition for “Gillnet gear capable of catching multispecies (for purposes of the interim action)”, in alphabetical order.

The addition reads as follows.

§ 648.2 Definitions.

* * * * *

Gillnet gear capable of catching multispecies (for purposes of the interim action) means all gillnet gear except pelagic gillnet gear specified at § 648.81(o)(2)(ii) and pelagic gillnet gear that is designed to fish for and is used to fish for or catch tunas, swordfish, and sharks.

* * * * *

3. Section 648.10 is amended by adding paragraph (k)(3)(i)(A) and reserved paragraph (k)(3)(i)(B) to read as follows:

§ 648.10 VMS and DAS requirements for vessel owners/operators.

* * * * *

(k) * * *

(3) * * *

(i) * * *

(A) Vessels that notify NMFS of their intended fishing activity in accordance with paragraphs (g), (h), or (k) of this section, must declare one or more NE multispecies broad stock areas, as defined in paragraphs (k)(3)(i) through (iv) of this section, unless otherwise specified in this paragraph (k)(3)(i)(A). If a vessel declares to fish in the GOM Stock Area I as defined in paragraph (k)(3)(i), the vessel is prohibited from fishing outside of the GOM Stock Area I on that trip.

(B) [Reserved]

* * * * *

4. Section 648.14 is amended by:

a. Suspending from November 13, 2014 until April 30, 2015, paragraphs (k)(6)(i)(E), (k)(7)(i)(A) and (B), (k)(12)(v)(E) and (F), (k)(13)(i)(D)(1) through (4), (k)(13)(ii)(B) through (D), (k)(14)(viii), and (k)(16)(iii)(A) through (C);

b. Revising paragraphs (k)(12)(i) introductory text, (k)(13)(i) introductory text; and

c. Temporarily adding from November 13, 2014 until April 30, 2015, paragraphs (k)(6)(i)(H), (k)(7)(i)(H) through (J), (k)(12)(v)(K) and (L), (k)(13)(i)(D)(5) and (6), (k)(13)(ii)(K) through (M), (k)(14)(xii), and (k)(16)(iii)(D) through (F).

The revisions and additions read as follows:

§ 648.14 Prohibitions.

* * * * *

(k) * * *

(6) * * *

(i) * * *

(H) Use, set, haul back, fish with, or possess on board a vessel, unless not available for immediate use as defined in § 648.2, or fail to remove, sink gillnet gear and other gillnet gear capable of catching NE multispecies, with the exception of single pelagic gillnets (as described in § 648.81(o)(2)(ii)), in the areas and for the times specified in § 648.80(g)(6)(iii) and (iv), except as provided in § 648.80(g)(6)(iii) and (iv), and § 648.81(o)(2)(ii), or unless otherwise authorized in writing by the Regional Administrator.

* * * * *

(7) * * *

(i) * * *

(H) Seasonal Interim Closure Areas. Fish for, harvest, possess, or land regulated species in or from the closed areas specified in in § 648.81(o)(1), except as provided in § 648.81(o)(2).

(I) Enter, be on a fishing vessel in, or fail to remove gear from the EEZ portion of the areas described in § 648.81(d)(3) through (g)(1), except as provided in § 648.81(d)(4), (e)(3), (g)(2), and (i), and (o)(2).

(J) Fish for, harvest, possess, or land regulated species in or from the closed areas specified in § 648.81(a) through (f) and (o), unless otherwise specified in § 648.81(c)(2)(iii), (i), (o)(2), or as authorized under § 648.85.

* * * * *

(12) SAP restrictions. (i) It is unlawful for any person to:

* * * * *

(v) * * *

(K) If fishing in the Regular B DAS Program specified in § 648.85(b)(6), fail to comply with the landing limits specified in § 648.85(b)(6)(iv)(K).

(L) If fishing under a Regular B DAS in the Regular B DAS Program, fail to comply with the DAS flip requirements of § 648.85(b)(6)(iv)(E) if the vessel harvests and brings on board more than the landing limit for a groundfish stock of concern specified in § 648.85(b)(6)(iv)(K), other groundfish specified under § 648.86, or monkfish under § 648.94.

(13) Possession and landing restrictions. (i) It is unlawful for all persons to:

* * * * *

(D) * * *

(5) Enter port, while on a NE multispecies trip, in possession of more than the allowable limit of cod specified in § 648.82(b)(7) or (8); § 648.86(b)(5), unless the vessel is fishing under the cod exemption specified in § 648.86(b)(7); § 648.87(c)(2)(ii)(E); or § 648.88(a)(1).

(6) Fail to declare through VMS an intent to be exempt from the GOM cod trip limit under § 648.86(b)(5), as required under § 648.86(b)(7), or fish north of the exemption line if in possession of more than the GOM cod trip limit specified under § 648.86(b)(5).

(ii) * * *

(K) Possess or land per trip more than the possession or landing limits specified in § 648.86(a), (b), (c), (e), (g), (h), (j), (l), (m), (n), and (o); § 648.82(b)(7) and (8); § 648.85; or § 648.88, if the vessel has been issued a limited access NE multispecies permit or open access NE multispecies permit, as applicable.

(L) Fish for, possess at any time during a trip, or land regulated NE multispecies or ocean pout specified in § 648.86 after using up the vessel's annual DAS allocation or when not participating in the DAS program pursuant to § 648.82, unless otherwise exempted by §§ 648.82(b)(7), 648.87, or 648.89, or allowed pursuant to §§ 648.85(b)(6) or 648.88.

(M) Atlantic cod. (1) Enter port, while on a NE multispecies DAS trip, in possession of more than the allowable limit of cod specified in § 648.86(b)(5), unless the vessel is fishing under the cod exemption specified in § 648.86(b)(7).

(2) Enter port, while on a NE multispecies DAS trip, in possession of more than the allowable limit of cod specified in § 648.86(b)(6).

(3) Fail to declare through VMS an intent to be exempt from the GOM cod trip limit under § 648.86(b)(5), as required under § 648.86(b)(7), or fish north of the exemption line if in possession of more than the GOM cod trip limit specified under § 648.86(b)(5).

(14) * * *

(xii) With the exception of GOM cod, discard legal-sized regulated species or ocean pout allocated to sectors pursuant to § 648.87(b)(1)(i), as prohibited by § 648.87(b)(1)(v).

* * * * *

(16) * * *

(iii) * * *

(D) If fishing under the recreational or charter/party regulations, fish for or possess cod caught in the GOM Regulated Mesh Area as specified under § 648.89(c)(8), or fail to abide by the appropriate restrictions if transiting with cod on board.

(E) If the vessel has been issued a charter/party permit or is fishing under charter/party regulations, fail to comply with the requirements specified in § 648.81(o)(2)(iii) when fishing in the areas described in § 648.81(d)(3) through (o)(1) during the time periods specified.

(F) If the vessel is a private recreational or charter/party boat fishing vessel, fail to comply with the GOM cod possession prohibition described in § 648.89(c)(8).

* * * * *

5. Section 648.80 is amended by:

a. Suspending from November 13, 2014 until April 30, 2015, paragraphs (a)(3)(vi), (a)(4)(iii), and (g)(6)(i) and (ii); and

b. Temporarily adding from November 13, 2014 until April 30, 2015, paragraphs (a)(3)(viii), (a)(4)(ix), and (g)(6)(iii) and (iv).

The additions read as follows:

§ 648.80 NE multispecies regulated mesh areas and restrictions on gear and methods of fishing.

* * * * *

(a) * * *

(3) * * *

(viii) Other restrictions and exemptions. A vessel is prohibited from fishing in the GOM or GB Exemption Area as defined in paragraph (a)(17) of this section, except if fishing with exempted gear (as defined under this part) or under the exemptions specified in paragraphs (a)(5) through (7), (a)(9) through (16), (a)(18) and (19), (d), (e), (h), and (i) of this section; or if fishing under a NE multispecies DAS; or if fishing on a sector trip; or if fishing under the Small Vessel or Handgear A permit specified in § 648.82(b)(7) and (8), respectively; or if fishing under a Handgear B permit specified in § 648.88(a); or if fishing under the scallop state waters exemptions specified in § 648.54 and paragraph (a)(11) of this section; or if fishing under a scallop DAS in accordance with paragraph (h) of this section; or if fishing pursuant to a NE multispecies open access Charter/Party or Handgear permit specified in § 648.88; or if fishing as a charter/party or private recreational vessel in compliance with § 648.89. Any gear used by a vessel in this area must be authorized under one of these exemptions. Any gear on a vessel that is not authorized under one of these exemptions must not be available for immediate use as defined in § 648.2.

(4) * * *

(ix) Large-mesh vessels. When fishing in the GB Regulated Mesh Area, the minimum mesh size for any trawl net, or sink gillnet, and the minimum mesh size for any trawl net, or sink gillnet, when fishing in that portion of the GB Regulated Mesh Area that lies within the SNE Exemption Area, as described in paragraph (b)(10) of this section, that is not stowed and available for immediate use as defined in § 648.2, on a vessel or used by a vessel fishing under a DAS in the Large-mesh DAS program, specified in § 648.82(b)(7), is 8.5-inch (21.6-cm) diamond or square mesh throughout the entire net. This restriction does not apply to nets or pieces of nets smaller than 3 ft (0.9 m) × 3 ft (0.9 m), (9 sq ft (0.81 sq m)), or to vessels that have not been issued a NE multispecies permit and that are fishing exclusively in state waters.

* * * * *

(g) * * *

(6) * * *

(iii) Requirements for gillnet gear capable of catching NE multispecies to reduce harbor porpoise takes. In addition to the requirements for gillnet fishing identified in this section, all persons owning or operating vessels in the EEZ that fish with sink gillnet gear and other gillnet gear capable of catching NE multispecies, with the exception of single pelagic gillnets (as described in § 648.81(o)(2)(ii)), must comply with the applicable provisions of the Harbor Porpoise Take Reduction Plan found in § 229.33 of this title.

(iv) Requirements for gillnet gear capable of catching NE multispecies to prevent large whale takes. In addition to the requirements for gillnet fishing identified in this section, all persons owning or operating vessels in the EEZ that fish with sink gillnet gear and other gillnet gear capable of catching NE multispecies, with the exception of single pelagic gillnets (as described in § 648.81(o)(2)(ii)), must comply with the applicable provisions of the Atlantic Large Whale Take Reduction Plan found in § 229.32 of this title.

* * * * *

6. Section 648.81 is amended as follows:

a. Suspend from November 13, 2014 until April 30, 2015, paragraphs (d)(1) and (2), (e)(1) and (2), (f)(1) and (2), and (g)(1)(i); and

b. Temporarily add from November 13, 2014 until April 30, 2015, paragraphs (d)(3) and (4), (e)(3) and (4), (g)(1)(vii), and (o).

The additions read as follows:

§ 648.81 NE multispecies closed area and measures to protect EFH.

* * * * *

(d) * * *

(3) No fishing vessel or person on a fishing vessel may enter, fish in, or be in, and no fishing gear capable of catching NE multispecies, unless otherwise allowed in this part, may be in, or on board a vessel in the area known as the Cashes Ledge Closure Area, as defined by straight lines connecting the following points in the order stated, except as specified in paragraphs (d)(4) and (i) of this section (a chart depicting this area is available from the Regional Administrator upon request):

Cashes Ledge Closure Area
Point |  | W.
CL1 | 43°07′ | 69°02′
CL2 | 42°49.5′ | 68°46′
CL3 | 42°46.5′ | 68°50.5′
CL4 | 42°43.5′ | 68°58.5′
CL5 | 42°42.5′ | 69°17.5′
CL6 | 42°49.5′ | 69°26′
CL1 | 43°07′ | 69°02′

(4) Unless otherwise restricted under the EFH Closure(s) specified in paragraph (h) of this section, paragraph (d)(3) of this section does not apply to persons aboard fishing vessels or fishing vessels:

(i) That are fishing with or using exempted gear as defined under this part, or in the Midwater Trawl Gear Exempted Fishery as specified under 648.80(d), and excluding pelagic gillnet gear capable of catching NE multispecies, except for vessels fishing with a single pelagic gillnet not longer than 300 ft (91.4 m) and not greater than 6 ft (1.83 m) deep, with a maximum mesh size of 3 inches (7.6 cm), provided:

(A) The net is attached to the boat and fished in the upper two-thirds of the water column;

(B) The net is marked with the owner's name and vessel identification number;

(C) There is no retention of regulated species; and

(D) There is no other gear on board capable of catching NE multispecies;

(ii) That are fishing under charter/party or recreational regulations, provided that:

(A) For vessels fishing under charter/party regulations in the Cashes Ledge Closure Area or Western GOM Area Closure, as described under paragraph (d) and (e) of this section, respectively, it has on board a letter of authorization issued by the Regional Administrator, as specified in § 648.89(e)(6);

(B) Fish species managed by the NEFMC or MAFMC that are harvested or possessed by the vessel, are not sold or intended for trade, barter or sale, regardless of where the fish are caught; and

(C) The vessel has no gear other than rod and reel or handline on board and is fishing for pelagic recreational species; and

(D) The vessel does not use any NE multispecies DAS during the entire period for which the letter of authorization is valid;

(iii) That are fishing with or using scallop dredge gear when fishing under a scallop DAS or when lawfully fishing in the Scallop Dredge Fishery Exemption Area as described in § 648.80(a)(11), provided the vessel does not retain any regulated NE multispecies during a trip, or on any part of a trip; or

(iv) That are fishing in the Raised Footrope Trawl Exempted Whiting Fishery, as specified in § 648.80(a)(15).

(e) * * *

(3) No fishing vessel or person on a fishing vessel may enter, fish in, or be in, and no fishing gear capable of catching NE multispecies, unless otherwise allowed in this part, may be in, or on board a vessel in, the area known as the Western GOM Closure Area, as defined by straight lines connecting the following points in the order stated, except as specified in paragraphs (d)(4) and (i) of this section:

Western GOM Closure Area ¹
Point | N. lat. | W. long.
WGM1 | 42°15′ | 70°15′
WGM2 | 42°15′ | 69°55′
WGM3 | 43°15′ | 69°55′
WGM4 | 43°15′ | 70°15′
WGM1 | 42°15′ | 70°15′
¹ A chart depicting this area is available from the Regional Administrator upon request.

(4) Unless otherwise restricted under paragraph (h) of this section, paragraph (e)(3) of this section does not apply to fishing vessels that meet the criteria in paragraphs (e)(4) of this section, or consistent with the requirements specified under § 648.80(a)(5).

* * * * *

(g) * * *

(1) * * *

(vii) That meet the criteria in paragraphs (o)(2)(i) or (ii) of this section;

* * * * *

(o) Seasonal Interim Closure Areas. (1) No fishing vessel, recreational or commercial, with gear capable of catching GOM cod, may enter or fish in, the Seasonal Interim Closure Areas, as described in paragraphs (o)(1)(i) through (x) of this section, except as specified in paragraphs (o)(2)(i) through (v) of this section. A chart depicting these areas is available from the Regional Administrator upon request.

(i) From January 1 through January 31, the restrictions specified in this paragraph (o)(1) apply to Seasonal Interim Closure Area 1, which is defined by the following points, connected in the order listed by straight lines, and bounded on the west by the coastline of Massachusetts:

Seasonal Interim Closure Area 1
[January 1-January 31]
Point | Latitude | Longitude
JAN 1 | 42°30′ N | (¹)
JAN 2 | 42°30′ N | 70°30′ W
JAN 3 | 43°00′ N | 70°30′ W
JAN 4 | 43°00′ N | 70°00′ W
JAN 5 | 42°15′ N | 70°00′ W
JAN 6 | 42°15′ N | 70°30′ W
JAN 7 | 42°00′ N | 70°30′ W
JAN 8 | 42°00′ N | (²)
¹ The intersection of 42°30′ N latitude and the Massachusetts coastline.
² The intersection of 42°00′ N latitude and the Massachusetts coastline.

(ii) From February 1 through February 28, the restrictions specified in this paragraph (o)(1) apply to Seasonal Interim Closure Area 2, which is defined by the following points, connected in the order listed by straight lines, and bounded on the west by the coastline of Massachusetts:

Seasonal Interim Closure Area 2
[February 1-February 28]
Point | Latitude | Longitude
FEB 1 | 42°30′ N | (¹)
FEB 2 | 42°30′ N | 70°00′ W
FEB 3 | 43°00′ N | 70°00′ W
FEB 4 | 43°00′ N | 69°30′ W
FEB 5 | 42°30′ N | 69°30′ W
FEB 2 | 42°30′ N | 70°00′ W
FEB 7 | 42°15′ N | 70°00′ W
FEB 8 | 42°15′ N | 70°30′ W
FEB 9 | 42°00′ N | 70°30′ W
FEB 10 | 42°00′ N | (²)
¹ The intersection of 42°30′ N latitude and the Massachusetts coastline.
² The intersection of 42°00′ N latitude and the Massachusetts coastline.

(iii) From March 1-March 31, the restrictions specified in this paragraph (o)(1) apply to Seasonal Interim Closure Area 3, which is defined by the following points, connected in the order listed by straight lines, and bounded on the west by the coastline of Massachusetts and New Hampshire:

Seasonal Interim Closure Area 3
[March 1-March 31]
Point | Latitude | Longitude
MAR 1 | 43°00′ N | (¹)
MAR 2 | 43°00′ N | 70°00′ W
MAR 3 | 43°30′ N | 70°00′ W
MAR 4 | 43°30′ N | 69°30′ W
MAR 5 | 42°30′ N | 69°30′ W
MAR 6 | 42°30′ W | 70°00′ W
MAR 7 | 42°15′ N | 70°00′ W
MAR 8 | 42°15′ N | 70°30′ W
MAR 9 | 42°30′ N | 70°30′ W
MAR 10 | 42°30′ N | (²)
¹ The intersection of 43°00′ N latitude and the New Hampshire coastline.
² The intersection of 42°30′ N latitude and the Massachusetts coastline.

(iv) From April 1-April 30, the restrictions specified in this paragraph (o)(1) apply to Seasonal Interim Closure Area 4, which is defined by the following points, connected in the order listed by straight lines, and bounded on the west by the coastline of Massachusetts and New Hampshire:

Seasonal Interim Closure Area 4
[April 1-April 30]
Point | Latitude | Longitude
MAR 1 | 43°00′ N | (¹)
MAR 2 | 43°00′ N | 70°00′ W
MAR 3 | 43°30′ N | 70°00′ W
MAR 4 | 43°30′ N | 69°30′ W
MAR 5 | 43°00′ N | 69°30′ W
MAR 2 | 43°00′ N | 70°00′ W
MAR 7 | 42°15′ N | 70°00′ W
MAR 8 | 42°15′ N | 70°30′ W
MAR 9 | 42°00′ N | 70°30′ W
MAR 10 | 42°00′ N | (²)
¹ The intersection of 43°00′ N latitude and the New Hampshire coastline.
² The intersection of 42°00′ N latitude and the Massachusetts coastline.

(v) From May 1-May 30, the restrictions specified in this paragraph (o)(1) apply to Seasonal Interim Closure Area 5, which is defined by the following points, connected in the order listed by straight lines, and bounded on the west by the coastline of the United States:

Seasonal Interim Closure Area 5
[May 1-May 30]
Point | Latitude | Longitude
MAY 1 | 43°30′ N | (¹)
MAY 2 | 43°30′ N | 70°00′ W
MAY 3 | 42°15′ N | 70°00′ W
MAY 4 | 42°15′ N | 70°30′ W
MAY 5 | 42°00′ N | 70°30′ W
MAY 6 | 42°00′ N | (²)
¹ The intersection of 43°30′ N latitude and the Maine coastline.
² The intersection of 42°00′ N latitude and the Massachusetts coastline.

(vi) From June 1-June 30, the restrictions specified in this paragraph (o)(1) apply to Seasonal Interim Closure Area 6, which is defined by the following points, connected in the order listed by straight lines, and bounded on the west by the coastline of the United States:

Seasonal Interim Closure Area 6
[June 1-June 30]
Point | Latitude | Longitude
JUN 1 | (¹) | 70°30′ W
JUN 2 | 43°00′ N | 70°30′ W
JUN 3 | 43°00′ N | 70°00′ W
JUN 4 | 42°15′ N | 70°00′ W
JUN 5 | 42°15′ N | 70°30′ W
JUN 6 | 42°30′ N | 70°30′ W
JUN 7 | 42°30′ N | (²)
¹ The intersection of 70°00′ W longitude and the Maine coastline.
² The intersection of 42°30′ N latitude and the Massachusetts coastline.

(vii) From July 1-August 30, the restrictions specified in this paragraph (o)(1) apply to Seasonal Interim Closure Area 7, which is defined by the following points, connected in the order listed by straight lines:

Seasonal Interim Closure Area 7
[July 1-August 30]
Point | Latitude | Longitude
JUL 1 | 43°00′ N | 70°30′ W
JUL 2 | 43°00′ N | 70°00′ W
JUL 3 | 43°30′ N | 70°00′ W
JUL 4 | 43°30′ N | 69°30′ W
JUL 5 | 43°00′ N | 69°30′ W
JUL 2 | 43°00′ N | 70°00′ W
JUL 7 | 42°15′ N | 70°00′ W
JUL 8 | 42°15′ N | 70°30′ W
JUL 1 | 43°00′ N | 70°30′ W

(viii) From September 1-October 31, the restrictions specified in this paragraph (o)(1) apply to Seasonal Interim Closure Area 8, which is defined by the following points, connected in the order listed by straight lines:

Seasonal Interim Closure Area 8
[September 1-October 31]
Point | Latitude | Longitude
JUL 1 | 43°00′ N | 70°30′ W
JUL 2 | 43°00′ N | 70°00′ W
JUL 3 | 42°15′ N | 70°00′ W
JUL 4 | 42°15′ N | 70°30′ W
JUL 1 | 43°00′ N | 70°30′ W

(ix) From November 1-November 30, the restrictions specified in this paragraph (o)(1) apply to Seasonal Interim Closure Area 9, which is defined by the following points, connected in the order listed by straight lines, and bounded on the west by the coastlines of Massachusetts and New Hampshire:

Seasonal Interim Closure Area 9
[November 1-November 30]
Point | Latitude | Longitude
NOV 1 | 43°00′ N | (¹)
NOV 2 | 43°00′ N | 70°00′ W
NOV 3 | 42°15′ N | 70°00′ W
NOV 4 | 42°15′ N | 70°30′ W
NOV 5 | 42°00′ N | 70°30′ W
NOV 6 | 42°00′ N | MA coast
¹ The intersection of 43°00′ N latitude and the New Hampshire coastline.
² The intersection of 42°00′ N latitude and the Massachusetts coastline.

(x) From December 1-December 31, the restrictions specified in this paragraph (o)(1) apply to Seasonal Interim Closure Area 9, which is defined by the following points, connected in the order listed by straight lines, and bounded on the west by the coastline of Massachusetts:

Seasonal Interim Closure Area 10
[December 1-December 31]
Point | Latitude | Longitude
DEC 1 | 42°30′ N | (¹)
DEC 2 | 42°30′ N | 70°00′ W
DEC 3 | 42°00′ N | 70°00′ W
DEC 4 | 42°00′ N | (²)
¹ The intersection of 42°30′ N latitude and the Massachusetts coastline.
² The intersection of 42°00′ N latitude and the Kingston, Massachusetts (mainland) coastline.

(2) Paragraph (o)(1) of this section does not apply to persons aboard fishing vessels or fishing vessels:

(i) That have not been issued a Federal multispecies permit and that are fishing exclusively in state waters;

(ii) That are fishing with or using exempted gear as defined under this part, or in the Midwater Trawl Gear Exempted Fishery as specified under 648.80(d), and excluding pelagic gillnet gear capable of catching NE multispecies, except for vessels fishing with a single pelagic gillnet not longer than 300 ft (91.4 m) and not greater than 6 ft (1.83 m) deep, with a maximum mesh size of 3 inches (7.6 cm), provided:

(A) The net is attached to the boat and fished in the upper two-thirds of the water column;

(B) The net is marked with the owner's name and vessel identification number;

(C) There is no retention of regulated species; and

(D) There is no other gear on board capable of catching NE multispecies;

(iii) That are fishing with or using scallop dredge gear when fishing under a scallop DAS or when lawfully fishing in the Scallop Dredge Fishery Exemption Area as described in § 648.80(a)(11), provided the vessel does not retain any regulated NE multispecies during a trip, or on any part of a trip; or

(iv) That are fishing in the Raised Footrope Trawl Exempted Whiting Fishery, as specified in § 648.80(a)(15).

(v) That are transiting through the Seasonal Interim Closure Areas described in paragraph (o)(1) of this section, provided that gear is not available for immediate use as defined in § 648.2.

7. Section 648.82 is amended as follows:

a. Suspend from November 13, 2014 until April 30, 2015, paragraphs (b)(5) and (6); and

b. Temporarily add from November 13, 2014 until April 30, 2015, paragraphs (b)(7) and (8)

The additions read as follows:

§ 648.82 Effort-control program for NE multispecies limited access vessels.

* * * * *

(b) * * *

(7) Small Vessel category—(i) DAS allocation. A vessel qualified and electing to fish under the Small Vessel category may retain up to 300 lb (136.1 kg) of cod, haddock, and yellowtail flounder, combined, and one Atlantic halibut per trip, without being subject to DAS restrictions, and the daily possession limits specified for other regulated species and ocean pout, as specified at § 648.86, unless otherwise specified in this paragraph (b)(7). If the vessel elects to fish in the GOM Regulated Mesh Area, as defined at § 648.80(a)(1), the vessel may not possess or retain more than 200 lb (90.7 kg) of cod for the entire trip. If the vessel elects to fish south of the GOM Regulated Mesh Area, as defined at § 648.80(a)(1), the vessel may retain up 300 lb (136.1 kg) of cod. Any vessel may elect to switch into the Small Vessel category, as provided in § 648.4(a)(1)(i)(I)(2), if the vessel meets or complies with the following:

(A) The vessel is 30 ft (9.1 m) or less in length overall, as determined by measuring along a horizontal line drawn from a perpendicular raised from the outside of the most forward portion of the stem of the vessel to a perpendicular raised from the after most portion of the stern.

(B) If construction of the vessel was begun after May 1, 1994, the vessel must be constructed such that the quotient of the length overall divided by the beam is not less than 2.5.

(C) Acceptable verification for vessels 20 ft (6.1 m) or less in length shall be USCG documentation or state registration papers. For vessels over 20 ft (6.1 m) in length overall, the measurement of length must be verified in writing by a qualified marine surveyor, or the builder, based on the vessel's construction plans, or by other means determined acceptable by the Regional Administrator. A copy of the verification must accompany an application for a NE multispecies permit.

(D) Adjustments to the Small Vessel category requirements, including changes to the length requirement, if required to meet fishing mortality goals, may be made by the Regional Administrator following framework procedures of § 648.90.

(ii) [Reserved]

(8) Handgear A category. A vessel qualified and electing to fish under the Handgear A category, as described in § 648.4(a)(1)(i)(A), may retain up to 300 lb (135 kg) of cod, per trip, one Atlantic halibut and the daily possession limit for other regulated species and ocean pout, as specified under § 648.86, unless otherwise specified in this paragraph (b)(8). If the vessel elects to fish in the GOM Regulated Mesh Area, as defined at § 648.80(a)(1), the vessel may not possess or retain more than 200 lb (90.7 kg) of cod for the entire trip. If the vessel elects to fish south of the GOM Regulated Mesh Area, as defined at § 648.80(a)(1), the vessel may retain up 300 lb (136.1 kg) of cod. If the GB cod trip limit applicable to a vessel fishing under a NE multispecies DAS permit, as specified in § 648.86(b)(6) is reduced below 300 lb (135 kg) per DAS by NMFS, the cod trip limit specified in this paragraph (b)(8) shall be adjusted to be the same as the applicable cod trip limit specified for NE multispecies DAS permits. For example, if the GB cod trip limit for NE multispecies DAS vessels was reduced to 250 lb (113.4 kg) per DAS, then the cod trip limit for a vessel issued a Handgear A category permit that is fishing outside of the GOM Regulated Mesh Area would also be reduced to 250 lb (113.4 kg). Qualified vessels electing to fish under the Handgear A category are subject to the following restrictions:

(i) The vessel must not use or possess on board gear other than handgear while in possession of, fishing for, or landing NE multispecies, and must have at least one standard tote on board.

(ii) A vessel may not fish for, possess, or land regulated species from March 1 through March 20 of each year.

(iii) Tub-trawls must be hand-hauled only, with a maximum of 250 hooks.

(iv) Declaration. For any such vessel that is not required to use VMS pursuant to § 648.10(b)(4), to fish for GB cod south of the GOM Regulated Mesh Area, as defined at § 648.80(a)(1), a vessel owner or operator must obtain, and retain on board, a letter of authorization from the Regional Administrator stating an intent to fish south of the GOM Regulated Mesh Area and may not fish in any other area for a minimum of 7 consecutive days from the effective date of the letter of authorization. For any such vessel that is required, or elects, to use VMS pursuant to § 648.10(b)(4), to fish for GB cod south of the GOM Regulated Mesh Area, as defined at § 648.80(a)(1), a vessel owner or operator must declare an intent to fish south of the GOM Regulated Mesh Area on each trip through the VMS prior to leaving port, in accordance with instructions provided by the Regional Administrator. Such vessels may transit the GOM Regulated Mesh Area, as defined at § 648.80(a)(1), provided that their gear is not available for immediate use as defined in § 648.2.

* * * * *

8. Section 648.85 is amended as follows:

a. Suspend from November 13, 2014 until April 30, 2015, paragraph (b)(6)(iv)(D); and

b. Temporarily add from November 13, 2014 until April 30, 2015, paragraph (b)(6)(iv)(K).

The addition reads as follows:

§ 648.85 Special Management Programs.

* * * * *

(b) * * *

(6) * * *

(iv) * * *

(K) Landing limits. Unless otherwise specified in this paragraph (b)(6)(iv)(K), or restricted pursuant to § 648.86, a NE multispecies vessel fishing in the Regular B DAS Program described in this paragraph (b)(6), and fishing under a Regular B DAS, may not land more than 100 lb (45.5 kg) per DAS, or any part of a DAS, up to a maximum of 1,000 lb (454 kg) per trip, of any of the following species/stocks from the areas specified in paragraph (b)(6)(v) of this section: Cod, American plaice, witch flounder, SNE/MA winter flounder, and GB yellowtail flounder; and may not land more than 25 lb (11.3 kg) per DAS, or any part of a DAS, up to a maximum of 250 lb (113 kg) per trip of CC/GOM yellowtail flounder. If the vessel elects to fish in the GOM Regulated Mesh Area, as defined at § 648.80(a)(1), the vessel may not possess or retain more than 200 lb (90.7 kg) of cod for the entire trip. In addition, trawl vessels, which are required to fish with a haddock separator trawl, as specified in paragraph (a)(3)(iii)(A) of this section, or a Ruhle trawl, as specified in paragraph (b)(6)(iv)(J) of this section, and other gear that may be required in order to reduce catches of stocks of concern as described in paragraph (b)(6)(iv)(J) of this section, are restricted to the trip limits specified in paragraph (e) of this section.

9. Section 648.86 is amended as follows:

a. Suspend from November 13, 2014 until April 30, 2015, paragraphs (b)(1) through (4); and

b. Temporarily add from November 13, 2014 until April 30, 2015, paragraphs (b)(5) through (7).

The additions read as follows:

§ 648.86 NE Multispecies possession restrictions.

* * * * *

(b) * * *

(5) GOM cod landing and possession limit. Except as provided in paragraph (b)(7) of this section, or unless otherwise restricted under § 648.85, a vessel fishing under a NE multispecies limited access permit, including a vessel issued a monkfish limited access permit and fishing under the monkfish Category C or D permit provisions, may possess or land up to 200 lb (90.7 kg) of GOM cod per trip, provided that it complies with this paragraph (b)(5). Cod on board a vessel subject to this landing limit must be separated from other species of fish and stored so as to be readily available for inspection.

(i) Declaration. A limited access multispecies vessel that fishes or intends to fish on a NE multispecies trip in the GOM Regulated Mesh Area, defined in § 648.80(a)(1), must declare its intention to do so through the VMS or IVR, and is prohibited from fishing outside of this area for the remainder of the trip, as specified in § 648.10(k)(3)(i)(1).

(ii) [Reserved]

(6) GB cod landing and maximum possession limits. Unless otherwise restricted under § 648.85, a vessel fishing under a NE multispecies DAS permit, including a vessel issued a monkfish limited access permit and fishing under the monkfish Category C or D permit provisions, may land up to 2,000 lb (907.2 kg) of cod per DAS, or part of a DAS, up to 20,000 lb (9,072 kg) provided it complies with the requirements specified in paragraph (b)(7) of this section).

(7) Exemption. A NE multispecies limited access vessel fishing under a NE multispecies DAS is exempt from the landing limit described in paragraph (b)(5) of this section when fishing south of the GOM Regulated Mesh Area, defined in § 648.80(a)(1), provided that, when fishing under the common pool fishery, the vessel complies with the requirement of this paragraph (b)(7).

(i) Declaration. With the exception of a vessel declared into the U.S./Canada Management Area, as described in § 648.85(a)(3)(ii), a sector vessel, or a common pool vessel that fishes or intends to fish under a NE multispecies DAS south of the line described in paragraph (b)(7) of this section under the cod trip limits described in paragraph (b)(6) of this section, must, prior to leaving port, declare its intention to do so through the VMS, in accordance with instructions to be provided by the Regional Administrator. In lieu of a VMS declaration, the Regional Administrator may authorize such vessels to obtain a letter of authorization. If a letter of authorization is required, such vessel may not fish north of the exemption area for a minimum of 7 consecutive days (when fishing under the multispecies DAS program), and must carry the letter of authorization on board.

(ii) A NE multispecies limited access vessel exempt from the GOM cod landing limit pursuant to paragraph (b)(7)(i) of this section may not fish north of the line specified in paragraph (b)(7) of this section for the duration of the trip, but may transit the GOM Regulated Mesh Area, provided that its gear is unless not available for immediate use as defined in § 648.2.

* * * * *

10. Section 648.87 is amended as follows:

a. Suspend from November 13, 2014 until April 30, 2015, paragraphs (b)(1)(v)(A), (b)(1)(ix), (c)(2)(i), and (c)(2)(ii)(A) and (B); and

b. Temporarily add from November 13, 2014 until April 30, 2015, paragraphs (b)(1)(v)(C), (b)(1)(x), (c)(2)(ii)(E) and (F), and (c)(2)(iii).

The additions read as follows:

§ 648.87 Sector allocation.

* * * * *

(b) * * *

(1) * * *

(v) * * *

(C) Discards. Except for GOM cod, a sector vessel may not discard any legal-sized regulated species or ocean pout allocated to sectors pursuant to paragraph (b)(1)(i) of this section, unless otherwise required pursuant to § 648.86(l). For GOM cod, a sector vessel must discard all GOM cod that is in excess of 200 lb (90.7 kg) when fishing on a groundfish trip. Discards of undersized regulated species or ocean pout, as well as discards of GOM cod that exceed the 200 lb (90.7 kg) trip limit, by a sector vessel must be reported to NMFS consistent with the reporting requirements specified in paragraph (b)(1)(vi) of this section. Discards shall not be included in the information used to calculate a vessel's PSC, as described in § 648.87(b)(1)(i)(E), but shall be counted against a sector's ACE for each NE multispecies stock allocated to a sector.

* * * * *

(x) Trip limits. With the exception of the GOM cod trip limit at § 648.86(b)(5), the Atlantic halibut trip limit at § 648.86(c), and the stocks listed in § 648.86(1), a sector vessel is not limited in the amount of allocated NE multispecies stocks that can be harvested on a particular fishing trip, unless otherwise specified in the operations plan.

(c) * * *

(2) * * *

(ii) * * *

(E) Trip limits on NE multispecies stocks for which a sector receives an allocation of ACE pursuant to paragraph (b)(1)(i) of this section (i.e., all stocks except Atlantic halibut, ocean pout, windowpane flounder, and Atlantic wolffish), unless otherwise specified § 648.86(b)(5) and paragraph (b)(1)(x) of this section.

(F) The GB Seasonal Closed Area specified in § 648.81(g).

(iii) Regulations that may not be exempted for sector participants. The Regional Administrator may not exempt participants in a sector from the following Federal fishing regulations: Specific time and areas within the NE multispecies year-round closure areas; permitting restrictions (e.g., vessel upgrades, etc.); gear restrictions designed to minimize habitat impacts (e.g., roller gear restrictions, etc.); reporting requirements; and AMs specified at § 648.90(a)(5)(i)(D). For the purposes of paragraph (c)(2)(i) of this section, the DAS reporting requirements specified at § 648.82; the SAP-specific reporting requirements specified at § 648.85; and the reporting requirements associated with a dockside monitoring program are not considered reporting requirements, and the Regional Administrator may exempt sector participants from these requirements as part of the approval of yearly operations plans. For the purpose of paragraph (c)(2)(i) of this section, the Regional Administrator may not grant sector participants exemptions from the NE multispecies year-round closures areas defined as Essential Fish Habitat Closure Areas as defined at § 648.81(h); the Fippennies Ledge Area as defined in paragraph (c)(2)(i)(A) of this section; Closed Area I and Closed Area II, as defined at § 648.81(a) and (b), respectively, during the period February 16 through April 30; and the Western GOM Closure Area, as defined at § 648.81(e), where it overlaps with any Sector Rolling Closure Areas, as defined at § 648.81(o)(2)(vi). This list may be modified through a framework adjustment, as specified in § 648.90.

(A) Fippennies Ledge Area. The Fippennies Ledge Area is bounded by the following coordinates, connected by straight lines in the order listed:

Fippennies Ledge Area
Point | N. Latitude | W. Longitude
1 | 42°50.0′ | 69°17.0′
2 | 42°44.0′ | 69°14.0′
3 | 42°44.0′ | 69°18.0′
4 | 42°50.0′ | 69°21.0′

(B) [Reserved]

* * * * *

11. Section 648.88 is amended as follows:

a. Suspend from November 13, 2014 until April 30, 2015, paragraph (a)(1); and

b. Temporarily add from November 13, 2014 until April 30, 2015, paragraph (a)(3).

The addition reads as follows:

§ 648.88 Multispecies open access permit restrictions.

(a) * * *

(3) The vessel may possess and land up to 75 lb (90.7 kg) of cod, and up to the landing and possession limit restrictions for other NE multispecies specified in § 648.86, provided the vessel complies with the restrictions specified in paragraph (a)(2) of this section. If either the GOM or GB cod trip limit applicable to a vessel fishing under a NE multispecies DAS permit, as specified in § 648.86(b)(5) and (6), respectively, is adjusted by NMFS, the cod trip limit specified in this paragraph (a)(1) shall be adjusted proportionally (rounded up to the nearest 25 lb (11.3 kg)). For example, if the GOM cod trip limit specified at § 648.86(b)(5) doubled, then the cod trip limit for the Handgear B category fishing in the GOM Regulated Mesh Area would also double to 150 lb (68 kg).

* * * * *

12. Section 648.89 is amended as follows:

a. Suspend from November 13, 2014 until April 30, 2015, paragraphs (b)(3), (c)(1) and (2), and (e)(1) through (3); and

b. Temporarily add from November 13, 2014 until April 30, 2015, paragraphs (c)(8) and (e)(4) through (6).

The additions as follows:

§ 648.89 Recreational and charter/party vessel restrictions.

* * * * *

(c) * * *

(8) Private recreational and charter/party vessels. (i) Unless otherwise restricted in this paragraph (c)(2), each person on a private recreational vessel may possess no more than 10 cod per day in, or harvested from, the EEZ, and no person on a charter/party vessel man possess more than 10 cod per day. When fishing in the GOM Regulated Mesh Area defined in § 648.80(a)(1), unless otherwise restricted by the GOM Seasonal Interim Closure Areas specified under § 648.81(o), charter and party vessels fishing under this part, and recreational vessels fishing in the EEZ, may not fish for or possess GOM cod.

(ii) For purposes of counting fish, fillets will be converted to whole fish at the place of landing by dividing the number of fillets by two. If fish are filleted into a single (butterfly) fillet, such fillet shall be deemed to be from one whole fish.

(iii) Cod harvested by charter/party vessels, or recreational fishing vessels in or from the EEZ, with more than one person aboard may be pooled in one or more containers. If there is a violation of the possession limit on board a vessel carrying more than one person, the violation shall be deemed to have been committed by the owner or operator of the vessel.

(iv) Private recreational, and charter and party vessels in possession of cod caught outside the GOM Regulated Mesh Area may transit the GOM area, provided all bait and hooks are removed from fishing rods and any cod on board has been gutted and stored.

* * * * *

(e) * * *

(4) GOM Closed Areas. Unless otherwise specified in this paragraph (e)(3), a vessel fishing under charter/party regulations may not fish in the GOM closed areas specified at § 648.81(d)(3), (e)(3), and (o)(1) during the time periods specified in those paragraphs, unless the vessel has on board a valid letter of authorization issued by the Regional Administrator pursuant to § 648.81(d)(4) of this section. The conditions and restrictions of the letter of authorization must be complied with for the rest of the fishing year, beginning with the start of the participation period of the letter of authorization. A vessel fishing under charter/party regulations may not fish in the GOM Cod Spawning Protection Area specified at § 648.81(n)(1) or the GOM Seasonal Interim Closure Areas at § 648.81(o)(1)(i) through (x) during the time periods specified in that paragraph, unless the vessel complies with the requirements specified at § 648.81(n)(2)(iii).

(5) Nantucket Lightship Closed Area. A vessel fishing under the charter/party regulations may not fish in the Nantucket Lightship Closed Area specified in § 648.81(c)(1) unless the vessel has on board a letter of authorization issued by the Regional Administrator pursuant to paragraph (e)(6) of this section.

(6) Letters of authorization. To obtain either of the letters of authorization specified in paragraphs (e)(4) and (5) of this section, a vessel owner must request a letter from the Greater Atlantic Regional Fisheries Office of NMFS, either in writing or by phone (see Table 1 to 50 CFR 600.502). As a condition of these letters of authorization, the vessel owner must agree to the following:

(i) The letter of authorization must be carried on board the vessel during the period of participation;

(ii) Fish species managed by the NEFMC or MAFMC that are harvested or possessed by the vessel, are not sold or intended for trade, barter or sale, regardless of where the fish are caught;

(iii) The vessel has no gear other than rod and reel or handline gear on board; and

(iv) For the GOM charter/party closed area exemption only, the vessel may not fish on a sector trip, under a NE multispecies DAS, or under the provisions of the NE multispecies Small Vessel Category or Handgear A or Handgear B permit categories, as specified at § 648.82, during the period of participation.

* * * * *

[FR Doc. 2014-26844 Filed 11-10-14; 8:45 am]

BILLING CODE 3510-22-P